DEPARTMENT OF HEALTH AND HUMAN SERVICES

National Committee on Vital and Health Statistics: Meeting Full Committee

Pursuant to the Federal Advisory Committee Act, the Department of Health and Human Services (HHS) announces the following advisory committee meeting.

Name: National Committee on Vital and Health Statistics (NCVHS), Full Committee Meeting.

Time and Date:

September 22, 2014, 9:00 a.m.-5:45 p.m. EDT

September 23, 2014, 8:00 a.m.-12:00 p.m. EDT

Place: Centers for Disease Control and Prevention, National Center for Health Statistics, 3311 Toledo Road, Auditorium A & B, Hyattsville, Maryland 20782, (301) 458-4524.

Status: Open.

Purpose: The purpose of this meeting is to receive updates from Departmental Liaisons and discuss potential collaborative activities and projects within HHS. The Committee will review action items pertaining to ASC X12N XML Schema; Virtual Cards/Credit Cards; UDI in Administrative Transactions; Health Plan ID, Attachments; and ICD-10, as well as a Health Data Stewardship Toolkit. The Committee will also discuss plans for a charge and expectations for tasks associated with a Review Committee on Data Standards. The Population Health Subcommittee will provide an update on plans for the October 27-28 Roundtable on Supporting Community Data Engagement. Finally, the Working Group on HHS Data Access and Use will continue strategic discussions on usability, use, and usefulness of health data.

The times shown above are for the full Committee meeting. Subcommittee issues will be included as part of the Full Committee schedule.

Contact Person for More Information: Substantive program information may be obtained from Debbie M. Jackson, Acting Executive Secretary, NCVHS, National Center for Health Statistics, Centers for Disease Control and Prevention, 3311 Toledo Road, Room 2339, Hyattsville, Maryland 20782, telephone (301) 458-4614. Summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: August 20, 2014.
James Scanlon,
Deputy Assistant Secretary for Planning and Evaluation (Science and Data Policy), Office of the Assistant Secretary for Planning and Evaluation.

[FR Doc. 2014-20328 Filed 8-25-14; 8:45 am]

BILLING CODE 4150-05-P